DEPARTMENT OF TRANSPORTATION

Maritime Administration

[USCG-2006-24644]

TORP Terminal LP, Bienville Offshore Energy Terminal Liquefied Natural Gas Deepwater Port License Application; Preparation of Environmental Impact Statement

AGENCY: Maritime Administration, DOT.

ACTION: Notice of intent; notice of public meeting; request for comments.

SUMMARY: The Coast Guard and the Maritime Administration (MARAD) announce that the Coast Guard intends to prepare an environmental impact statement (EIS) as part of the environmental review of this license application. The application describes a project that would be located in the Gulf of Mexico, in Main Pass block MP 258, approximately 63 miles south of Mobile Point, Alabama. Publication of this notice begins a scoping process that will help identify and determine the scope of environmental issues to be addressed in the EIS. This notice requests public participation in the scoping process and provides information on how to participate. This notice announces public meetings and a public comment period to facilitate public participation.

DATES: The public meeting in Mobile, Alabama will be held on June 14, 2006. The public meeting will be held from 5 p.m. to 7 p.m. and will be preceded by an open house from 3 p.m. to 4:30 p.m. The public meeting may end earlier or later than the stated time, depending on the number of persons wishing to speak. Material submitted in response to the request for comments must reach the Docket Management Facility by June 30, 2006.

ADDRESSES: The open house and public meeting will be held at: Mobile Convention Center, One South Water Street, Room 203, Mobile, Alabama 36602; 251-208-2100.

Address docket submissions for USCG-2006-24644 to: Docket Management Facility, U.S. Department of Transportation,400 Seventh Street, SW., Washington, DC 20590-0001.

The Docket Management Facility accepts hand-delivered submissions and makes docket contents available for public inspection and copying at this address, in room PL-401, between 9 a.m. and 5 p.m., Monday through Friday, except Federal holidays. The Facility's telephone number is 202-366-9329; the fax number is 202-493-2251; and its website for electronic submissions or for electronic access to docket contents is http://dms.dot.gov.

FOR FURTHER INFORMATION CONTACT: Mary K. Jager, U.S. Coast Guard, telephone: 202-372-1454, e-mail: MJager@comdt.uscg.mil. If you have questions on viewing the docket, call Renee V. Wright, Program Manager, Docket Operations, telephone: 202-493-0402.

SUPPLEMENTARY INFORMATION:

Public Meeting and Open House

We invite you to learn about the proposed deepwater port at an informational open house and to comment at a public meeting on environmental issues related to the proposed deepwater port. Your comments will help us identify and refine the scope of the environmental issues to be addressed in the EIS.

In order to allow everyone a chance to speak at the public meeting, we may limit speaker time or extend the meeting hours or both. You must identify yourself and any organization you represent by name. Your remarks will be recorded or transcribed for inclusion in the public docket.

You may submit written material at the public meeting, either in place of or in addition to speaking. Written material must include your name and address and will be included in the public docket.

Public docket materials will be made available to the public on the Docket Management Facility's Docket Management System (DMS). See “Request for Comments” for information about DMS and your rights under the Privacy Act.

All our public meeting locations are wheelchair-accessible. If you plan to attend the open house or public meeting and need special assistance such as sign language interpretation or other reasonable accommodation, please notify the Coast Guard (see FOR FURTHER INFORMATION CONTACT) at least 3 business days in advance. Include your contact information as well as information about your specific needs.

Request for Comments

We request public comments or other relevant information on environmental issues related to the proposed deepwater port. The public meeting is not the only opportunity you have to comment. In addition to or in place of attending a meeting, you can submit comments to the Docket Management Facility during the public comment period (see DATES). We will consider all comments and material received during the comment period.

Submissions should include:

• Docket number USCG-2006-24644.

• Your name and address.

• Your reasons for making each comment or for bringing information to our attention.

Submit comments or material using only one of the following methods:

• Electronic submission to DMS at http://dms.dot.gov.

• Fax, mail, or hand delivery to the Docket Management Facility (see ADDRESSES). Faxed or hand-delivered submissions must be unbound, no larger than 8½ by 11 inches, and suitable for copying and electronic scanning. If you mail your submission and want to know when it reaches the Facility, include a stamped, self-addressed postcard or envelope.

Regardless of the method used for submitting comments or material, all submissions will be posted, without change, to the DMS Web site (http://dms.dot.gov) and will include any personal information you provide. Therefore, submitting this information makes it public. You may wish to read the Privacy Act notice that is available on the DMS website or the Department of Transportation Privacy Act Statement that appeared in the Federal Register on April 11, 2000 (65 FR 19477).

You may view docket submissions at the Docket Management Facility (see ADDRESSES) or electronically on the DMS Web site.

Background

Information about deepwater ports, the statutes and regulations governing their licensing, and the receipt of the current application for the proposed Bienville Offshore Energy Terminal deepwater port appeared in the Federal Register on May 5, 2006 (71 FR 26605). The “Summary of the Application” from that publication is reprinted below for your convenience.

Consideration of a deepwater port license application includes review of the proposed deepwater port's natural and human environmental impacts. The Coast Guard is the lead agency for determining the scope of this review, and in this case the Coast Guard has determined that review must include preparation of an EIS. This notice of intent is required by 40 CFR 1508.22 and briefly describes the proposed action and possible alternatives and our proposed scoping process. You can address any questions about the proposed action, the scoping process, or the EIS to the Coast Guard contact person identified in FOR FURTHER INFORMATION CONTACT.

Proposed Action and Alternatives

The proposed action requiring environmental review is the Federal licensing of the proposed deepwater port described in “Summary of the Application” below. The alternatives to licensing the proposed port are: (1) Licensing with conditions (including conditions designed to mitigate environmental impact) and (2) denying the application, which for purposes of environmental review is the “no-action” alternative.

Scoping Process

Public scoping is an early and open process for identifying and determining the scope of issues to be addressed in the EIS. Scoping begins with this notice, continues through the public comment period (see DATES), and ends when the Coast Guard has completed the following actions:

• Invites the participation of Federal, State, and local agencies, any affected Indian tribe, the applicant, and other interested persons;

• Determines the actions, alternatives, and impacts described in 40 CFR 1508.25;

• Identifies and eliminates from detailed study those issues that are not significant or that have been covered elsewhere;

• Allocates responsibility for preparing EIS components;

• Indicates any related environmental assessments or environmental impact statements that are not part of the EIS;

• Identifies other relevant environmental review and consultation requirements;

• Indicates the relationship between timing of the environmental review and other aspects of the application process; and

• At its discretion, exercises the options provided in 40 CFR 1501.7 (b).

Once the scoping process is complete, the Coast Guard will prepare a draft EIS and we will publish a Federal Register notice announcing its public availability. (If you want that notice to be sent to you, please contact the Coast Guard project manager identified in FOR FURTHER INFORMATION CONTACT.) You will have an opportunity to review and comment on the draft EIS. The Coast Guard will consider those comments and then prepare the final EIS. As with the draft EIS, we will announce the availability of the final EIS and once again give you an opportunity for review and comment.

Summary of the Application

TORP Terminal LP, proposes to own, construct, and operate a deepwater port, named Bienville Offshore Energy Terminal (BOET), in the Federal waters of the Outer Continental Shelf on Main Pass block MP 258, approximately 63 miles south of Mobile Point, Alabama, in a water depth of approximately 425 feet. The BOET Deepwater Port would be capable of mooring two LNG carriers of up to approximately 250,000 cubic meter capacity by means of two Single Anchor Leg Moorings (SALMs).

The LNG carriers would be off loaded one at a time to HiLoad floating re-gasification facilities, which use four submerged shell-and-tube heat exchangers to vaporize the LNG before sending it via 14-inch diameter flexible risers to a Pipeline End Manifold (PLEM) on the seafloor, then through 30-inch diameter pipeline to the support platform, where the gas will be metered and further sent out via interconnecting pipelines to four existing pipelines (Dauphin Island Gathering System Feedline, Transco Feedline, Destin Feedline, and Viosca Knoll Gathering System Feedline).

The major fixed components of the proposed deepwater port would be the Support Platform, two PLEMs with ancillary risers and terminal pipelines, HiLoad parking line pilings, and approximately 25 miles of new pipeline.

BOET will have an average throughput capacity of 1.2 billion standard cubic feet per day (Bscfd). No onshore pipelines or LNG storage facilities are associated with the proposed deepwater port application. A shore based facility will be used to facilitate movement of personnel, equipment, supplies, and disposable materials between the Terminal and shore.

Construction of the deepwater port would be expected to take 30 months; with startup of commercial operations in the latter half of 2009, should a license be issued. The deepwater port would be designed, constructed and operated in accordance with applicable codes and standards and would have an expected operating life of approximately 25 years.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70, pages 19477-78) or you may visit http://dms.dot.gov.

(Authority 49 CFR 1.66)

By Order of the Maritime Administrator.
Dated: May 26, 2006.
Joel C. Richard,
Secretary, Maritime Administration.

[FR Doc. E6-8497 Filed 5-31-06; 8:45 am]

BILLING CODE 4910-81-P